FEDERAL MARITIME COMMISSION

Ocean Transportation Intermediary License Reissuance

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/Address | Date reissued
2724NF | Air 7 Seas Transport Logistics, Inc., 1815 Houret Court, Milpitas, CA 95035-6823 | April 23, 2003.
10355N | Finlay's Import-Export, Inc. dba Finlay's Ship To Jamaica, 8700 NW 7th Avenue, Miami, FL 33150 | April 3, 2003.
2189F | Stavers Corporation, 165 Truman Terrace, Paramus, NJ 07652 | April 13, 2003.
1294NF | U.S. Express, Inc., 137-44 94th Avenue., Jamaica, NY 11435 | September 1, 2002.

Sandra L. Kusumoto,
Director, Bureau of Consumer Complaints and Licensing.

[FR Doc. 03-13322 Filed 5-28-03; 8:45 am]

BILLING CODE 6730-01-P